DEPARTMENT OF TRANSPORTATION

[Docket No. DOT-OST-2018-0075]

Agency Request for Renewal of a Previously Approved Information Collection(s): Disadvantaged Business Enterprise Program Collections

AGENCY: Office of the Secretary, DOT.

ACTION: Notice and request for comments.

SUMMARY: The Department of Transportation (DOT) invites public comments about our intention to request the Office of Management and Budget (OMB) approval to renew information collections associated with DOT's Disadvantaged Business Enterprise (DBE) program. These collections are: Uniform Report of DBE Awards or Commitments and Payments, the Uniform Certification Application Form, Annual Affidavit of No Change, DOT Personal Net Worth Form, and Reporting Requirements for Percentages of DBEs in Various Categories. All five collections were previously approved under one OMB Control Number to allow DOT to more efficiently administer the DBE program. The information to be collected is necessary because it helps to ensure that State and local recipients that let federally funded contracts carry out their mandated responsibility to provide a level playing field for small businesses owned and controlled by socially and economically disadvantaged individuals. We are required to publish this notice in the Federal Register by the Paperwork Reduction Act of 1995.

DATES: Written comments should be submitted by August 3, 2018.

ADDRESSES: You may submit comments [identified by Docket No. DOT-OST-2018-0075] through one of the following methods:

• Federal eRulemaking Portal: http://www.regulations.gov. Follow the online instructions for submitting comments.

• Fax: 1-202-493-2251.

• Mail or Hand Delivery: Docket Management Facility, U.S. Department of Transportation, 1200 New Jersey Avenue SE, West Building, Room W12-140, Washington, DC 20590, between 9 a.m. and 5 p.m., Monday through Friday, except on Federal holidays.

FOR FURTHER INFORMATION CONTACT: Mr. Marc Pentino, Departmental Office of Civil Rights, Office of the Secretary, U.S. Department of Transportation, 1200 New Jersey Avenue SE, Washington, DC 20590, (202) 366-6968, or at marc.pentino@dot.gov.

SUPPLEMENTARY INFORMATION:

OMB Control Number: 2105-0510.

Title: Disadvantaged Business Enterprise Program Collections.

Form Numbers: Not applicable.

Type of Review: Renewal of an information collection.

Background: DOT's DBE program is mandated by statute, including Section 1101(b) of the Fixing America's Surface Transportation Act (FAST Act) (Pub. L. 114-94) and 49 U.S.C. 47113. The Department's final regulations implementing these statutes are 49 CFR parts 23 and 26. The program is implemented by recipients of DOT financial assistance (State highway agencies, transit authorities, and airports).

The “Uniform Report of DBE Awards or Commitments and Payments” is necessary for the Department to be able to carry out its oversight responsibilities. It implements statutory reporting requirements and 49 CFR 26.11, and 26.47.

The “Uniform Certification Application Form” is necessary to implement 49 CFR 26.83(c)(2) and determine whether a particular firm qualifies for certification as a DBE.

The “Annual Affidavit of No Change” is mandated under 49 CFR 26.83(j) and is necessary to ensure the integrity of the DBE program that requires DBEs annually state that they remain eligible for the program.

The “Personal Net Worth Form” is necessary to implement the requirement found in 49 CFR 26.67(a)(2) that a firm applying for DBE status must certify that the personal net worth of the owners does not exceed the current maximum threshold.

The “Percentages of DBEs in Various Categories” collection is necessary to implement a long-standing statutory requirement calling on States to report annually, a list of small businesses certified as DBEs that are owned and controlled by socially and economically disadvantaged individuals, most recently included at section 1101(b)(4)(A) and (B) of the FAST Act. Submission of this information will also satisfy 49 CFR 26.11(e).

The information collections support one of DOT's strategic objectives of mission efficiency and support. The collection also helps ensure that State and local recipients that let federally funded contracts carry out their mandated responsibility to ensure that only eligible small businesses owned and controlled by socially and economically disadvantaged individuals may compete for such contracts as a DBE.

The Department anticipates making minor editorial corrections to the forms published in the Code of Federal Regulations; and is seeking public comment on helping us identify any errors to enhance the quality of the collection and program integrity.

Uniform Report of DBE Awards/Commitments and Payments

Respondents: DOT financially-assisted State and local transportation agencies.

Number of Respondents: 1,250.

Frequency: Once/twice a year.

Number of Responses: One/two.

Total Annual Burden: 9,000 hours.

Uniform Certification Application Form

Respondents: Firms applying to be certified as DBEs.

Number of Respondents: 9,500.

Frequency: Once during initial certification.

Number of Responses: One.

Total Annual Burden: 76,000 hours.

Annual Affidavit of No Change

Respondents: Certified DBEs.

Number of Respondents: Approximately 38,338 certified DBE firms.

Frequency: Once per year.

Number of Responses: One.

Total Annual Burden: 57,507 hours.

Personal Net Worth Form

Respondents: Certified DBEs and firms applying to be DBEs.

Number of Respondents: 9,500.

Frequency: Once per year.

Number of Responses: One.

Total Annual Burden: 19,000 hours.

Percentage of DBEs in Various Categories

Respondents: States (through their UCPs).

Number of Respondents: 53 (50 states, plus the District of Columbia, Puerto Rico, and the Virgin Islands).

Frequency: Once per year.

Number of Responses: One.

Total Annual Burden: 161.6 hours.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995; 44 U.S.C. Chapter 35, as amended; and 49 CFR 1.49.

Charles E. James, Sr.,
Director, Departmental Office of Civil Rights.

[FR Doc. 2018-11921 Filed 6-1-18; 8:45 am]

BILLING CODE 4910-9X-P